FEDERAL COMMUNICATIONS COMMISSION

47 CFR Part 73

[DA 05-2211;MB Docket No. 02-294; RM-10543, RM-10774]

Radio Broadcasting Services; Brigham City, UT, Fountain Green, UT, Opal and Reliance WY; and Price and Woodruff, UT

AGENCY: Federal Communications Commission.

ACTION: Final rule.

SUMMARY: The Audio Division, at the request of Simmons-SLC, LS, LLC, reallots Channel 264C from Brigham City to Woodruff, Utah, and modifies Station KEGH(FM)'s license accordingly (RM-10774). To accommodate the reallotment, we will (1) substitute Channel 254C3 for vacant Channel 265C3 at Reliance, Wyoming; (2) substitute Channel 261A for Channel 265C2 at Price, Utah, and modify Station KWSA(FM)'s reference coordinates and license accordingly; and (3) modify the reference coordinates for vacant Channel 260A at Fountain Green, Utah. At the request of Black Diamond Broadcasting, we also dismiss the petition for rule making proposing the allotment of Channel 263A at Opal, Wyoming (RM-10543). See 67 FR 63874, October 16, 2002. See Supplementary Information, infra.

DATES: Effective September 12, 2005.

FOR FURTHER INFORMATION CONTACT: Sharon P. McDonald, Media Bureau, (202) 418-2180.

SUPPLEMENTARY INFORMATION: This is a synopsis of the Commission's Report and Order, MB Docket No. 02-294, adopted July 27, 2005, and released July 29, 2005. The full text of this Commission decision is available for inspection and copying during normal business hours in the FCC Information Center, Portals II, 445 12th Street, SW., Room CY-A257, Washington, DC 20554. The complete text of this decision also may be purchased from the Commission's duplicating contractor, Best Copy and Printing, Inc., 445 12th Street, SW., Room CY-B402, Washington, DC 20554, (800) 378-3160, or via the company's Web site, http://www.bcpiweb.com. The Commission will send a copy of this Report and Order in a report to be sent to Congress and the Government Accountability Office pursuant to the Congressional Review Act, see U.S.C. 801(a)(1)(A).

Channel 264C can be reallotted to Woodruff in compliance with the Commission's minimum distance separation requirements with a site restriction of 65.8 kilometers (40.9 miles) south at petitioner's requested site. The coordinates for Channel 264C at Woodruff are 40-56-13 North Latitude and 111-00-35 West Longitude. To accommodate the reallotment, Channel 254C3 can be substituted for vacant Channel 265C3 at Reliance at its presently authorized site. The coordinates for Channel 254C3 are 41-40-09 North Latitude and 109-11-47 West Longitude. Channel 261A can be allotted to Price with a site restriction of 6.0 kilometers (3.7 miles) south at petitioner's requested site. The coordinates for Channel 261A at Price are 39-32-42 North Latitude and 110-48-56 West Longitude. The reference coordinates can be modified for vacant Channel 260A at Fountain Green without the imposition of a site restriction. The modified reference coordinates for Channel 260A at Fountain Green are 39-37-42 North Latitude 111-38-28 West Longitude.

The FM Table of Allotments lists Channel 265A at Price, Utah in lieu of Channel 265C2 at Price, Utah. On October 24, 2002, Station KWSA was granted a construction permit to specify operation on Channel 265C2 at Price, Utah. See BMPH-20020726ABU.

List of Subjects in 47 CFR Part 73

Radio, Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Utah, is amended by removing Channel 264C at Brigham City, by removing Channel 265A and adding Channel 261A at Price and by adding Woodruff, Channel 264C.

3. Section 73.202(b), the Table of FM Allotments under Wyoming, is amended by removing Channel 265C3 and adding Channel 254C3 at Reliance.

Federal Communications Commission.
John A. Karousos,
Assistant Chief, Audio Division, Media Bureau.

[FR Doc. 05-16072 Filed 8-16-05; 8:45 am]

BILLING CODE 6712-01-P